DEPARTMENT OF AGRICULTURE

Food and Nutrition Service

Agency Information Collection Activities: Proposed Collection; Comment Request—Special Milk Program for Children

AGENCY: Food and Nutrition Service (FNS), USDA.

ACTION: Notice.

SUMMARY: In accordance with the Paperwork Reduction Act of 1995, this notice invites the general public and other public agencies to comment on this information collection. This collection is a revision of a currently approved collection which FNS employs to determine public participation in Special Milk Program for Children.

DATES: Written comments must be received on or before October 19, 2018.

ADDRESSES: Comments may be sent to: Tina Namian, School Programs Branch, Policy and Program Development Division, Food and Nutrition Service, U.S. Department of Agriculture, 3101 Park Center Drive, Room 1206, Alexandria, VA 22302-1594. Comments may also be submitted via fax to the attention of Tina Namian at 703-305-6294 or via email to cndinternet@fns.usda.gov. Comments will also be accepted through the Federal eRulemaking Portal. Go to http://www.regulations.gov, and follow the online instructions for submitting comments electronically. All responses to this notice will be summarized and included in the request for Office of Management and Budget approval. All comments will be a matter of public record.

FOR FURTHER INFORMATION CONTACT: Requests for additional information or copies of this information collection should be directed to Tina Namian at 703-305-2590.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: 7 CFR part 215, Special Milk Program for Children.

Form Number: FNS-10 and FNS-777.

OMB Number: 0584-0005.

Expiration Date: January 31, 2019.

Type of Request: Revision of a currently approved collection.

Abstract: Section 3 of the Child Nutrition Act (CNA) of 1966, (42 U.S.C. 1772) authorizes the Special Milk Program (SMP). It provides for the appropriation of such sums as may be necessary to enable the Secretary of Agriculture to encourage the consumption of fluid milk by children in the United States in: (1) Nonprofit schools of high school grade and under; and (2) nonprofit nursery schools, child care centers, settlement houses, summer camps, and similar nonprofit institutions devoted to the care and training of children, which do not participate in a food service program authorized under the CNA or the National School Lunch Act.

Section 10 of the CNA (42 U.S.C. 1779) requires the Secretary of Agriculture to prescribe such regulations as deemed necessary to carry out this Act and the National School Lunch Act. Pursuant to that provision, the Secretary has issued 7 CFR part 215, which sets forth policies and procedures for the administration and operation of the SMP. State and local operators of the SMP are required to meet Federal reporting and accountability requirements. This information collection is required to administer and operate this program. The Program is administered at the State, school food authority (SFA), and child care institution levels; and operations include the submission of applications and agreements, submission and payment of claims, and maintenance of records. The reporting and record keeping burden associated with this revision has decreased from 14,914 hours to 13,325 hours. These changes are due to decreases in the number of participating institutions. All of the reporting and recordkeeping requirements associated with the SMP are currently approved by the Office of Management and Budget and are in force. This is a revision of the currently approved information collection.

Forms FNS-10 and FNS-777 collect information that are associated with this information collection; however, these forms are approved under another FNS information collection. Forms FNS-10 and FNS-777 are used by the State agencies to report program data. These forms, and the reporting burden associated with them, are approved under OMB# 0584-0594 Food Programs Reporting System (FPRS) (expiration date 9/30/19). The recordkeeping burden associated with these forms is covered in this collection.

Affected Public: State, Local, and Tribal Government (State agencies) and Non-profit Institutions.

Number of Respondents: 3,499 (54 State Agencies, 3,445 Non-profit Institutions).

Estimated Number of Responses per Respondent (Reporting): 1.35.

Total Annual Responses (Reporting): 4,741.

Reporting time per Response (Reporting): .25.

Estimated Annual Reporting Burden: 1,185.

Number of Recordkeepers: 3,499 (54 State Agencies, 3,445 Non-profit Institutions).

Estimated Number of Responses per Respondent (Recordkeeping): 23.91.

Estimated Total Number of Records to Keep: 83,666.

Estimated Time per Response (Recordkeeping): 0.15.

Total Estimated Recordkeeping Burden: 12,140.

Total Annual Responses for Reporting/Recordkeeping: 88,407.

Annual Recordkeeping and Reporting Burden: 13,325.

Current OMB Inventory for Part 215: 14,914.

Difference (change in burden with this renewal): −1,589.

Refer to Table 1 below for estimated total annual burden for each type of respondent.

Dated: August 10, 2018.
Brandon Lipps,
Administrator, Food and Nutrition Service.

Table 1—Estimated Total Annual Burden for Each Type of Respondent
Affected public | Estimated number of respondents | Number of responses per respondent | Total annual responses | Est. total hours per response | Estimated total burden
Reporting
State agencies | 54 | 24 | 1,296 | 0.25 | 324
Non-profit Institutions | 3,445 | 1 | 3,445 | 0.25 | 861
Total Estimated Reporting Burden | 3,499 | 1.35 | 4,741 | 0.25 | 1,185
Recordkeeping
State agencies | 54 | 861.8 | 46,537 | 0.10 | 4,714
Non-profit Institutions | 3,445 | 10.78 | ¹ 37,129 | 0.20 | 7,426
Total Estimated Recordkeeping Burden | 3,499 | ² 23.91 | 83,666 | 0.15 | 12,140
Total Reporting and Recordkeeping
Reporting | 3,499 | 1.35 | 4,741 | 0.25 | 1,185
Recordkeeping | 3,499 | 23.91 | 83,666 | 0.15 | 12,140
Total | 3,499 | 25.27 | 88,407 | 0.15 | 13,325
¹ Certain procurement requirements only apply to the 2,679 school food authorities and residential child care institutions participating in the Special Milk Program.
² Rounded from 23.91146.

[FR Doc. 2018-17841 Filed 8-17-18; 8:45 am]

BILLING CODE 3410-30-P